DEPARTMENT OF COMMERCE

National Oceanic and Atmospheric Administration

[I.D. 040102B]

Marine Mammals

AGENCY: National Marine Fisheries Service (NMFS), National Oceanic and Atmospheric Administration (NOAA), Commerce.

ACTION: Issuance of Photography Permit No. 1019-1657-00.

SUMMARY: Daniel J. Cox, Natural Exposures, 16595 Brackett Creek Road, Bozeman, Montana 59715, has been issued a permit to take by Level B harassment one species of non-threatened, non-endangered marine mammals, the northern elephant seal (Mirounga angustirostris), for purposes of educational/commercial photography.

ADDRESSES: The permit and related documents are available for review upon written request or by appointment in the following offices:

Permits Division, Office of Protected Resources, NMFS, 1315 East-West Highway, Room 13130, Silver Spring, MD 20910 (301/713-2289); and

Regional Administrator, Southwest Region, NMFS, 501 West Ocean Boulevard, Long Beach, California 90802-4213, (562/980-4000).

SUPPLEMENTARY INFORMATION: On December 27, 2001, notice was published in the Federal Register (66 FR 66888) that the above-named applicant had submitted a request for a permit to take one species of marine mammals by Level B harassment during the course of commercial photographic activities in San Simeon, Piedras Blancas, Ano Nuevo State Reserve, Point Reyes National Seashore, the Farallones and Channel Islands, California. The requested permit has been issued, under the authority of Section 104(c)(6) of the Marine Mammal Protection Act of 1972, as amended (16 U.S.C. 1361 et seq.).

Dated: April 9, 2002.
Ann D. Terbush,
Chief, Permits, Conservation and Education Division, Office of Protected Resources, National Marine Fisheries Service.

[FR Doc. 02-9525 Filed 4-17-02; 8:45 am]

BILLING CODE 3510-22-S